DEPARTMENT OF COMMERCE

National Oceanic and Atmospheric Administration

[RTID 0648-XF414]

Fisheries of the South Atlantic; Southeast Data, Assessment, and Review; Public Meeting

AGENCY: National Marine Fisheries Service, National Oceanic and Atmospheric Administration, Commerce.

ACTION: Notice of SEDAR 90 Assessment Webinar 2 for South Atlantic red snapper.

SUMMARY: The SEDAR 90 assessment process of South Atlantic red snapper will consist of a Data Workshop, a series of assessment webinars, and a Review Workshop. See SUPPLEMENTARY INFORMATION.

DATES: The SEDAR 90 Assessment Webinar 2 will be held from 2 p.m. until 5 p.m. EDT January 20, 2026.

ADDRESSES: SEDAR address: 4055 Faber Place Drive, Suite 201, North Charleston, SC 29405. https://www.sedarweb.org.

FOR FURTHER INFORMATION CONTACT: Emily Ott, SEDAR Coordinator; (843) 302-8434. Email: Emily.Ott@safmc.net.

SUPPLEMENTARY INFORMATION: Meeting address: The SEDAR 90 Assessment Webinar 2 will be held via webinar. The webinar is open to members of the public. The established times may be adjusted as necessary to accommodate the timely completion of discussion relevant to the assessment process. Such adjustments may result in the meeting being extended from or completed prior to the time established by this notice.

The Gulf, South Atlantic, and Caribbean Fishery Management Councils, in conjunction with the National Marine Fisheries Service (NMFS) and the Atlantic and Gulf States Marine Fisheries Commissions have implemented the Southeast Data, Assessment and Review (SEDAR) process, a multi-step method for determining the status of fish stocks in the Southeast Region SEDAR is a participatory process for developing, evaluating and reviewing information used for fisheries management advice. The process may include (1) a Data stage, and (2) an Assessment stage, and (3) a Review stage. The product of the Data stage is a report which compiles and evaluates potential datasets and recommends which datasets are appropriate for assessment analyses. The product of the Assessment stage is a report which compiles and evaluates recommended model configurations that describes the fisheries, evaluates the status of the stock, estimates biological benchmarks and projects future population conditions. The product of the Review Workshop is a Review Summary documenting panel opinions regarding the strengths and weaknesses of the products reviewed. Participants for SEDAR Workshops are appointed by the Gulf, South Atlantic, and Caribbean Fishery Management Councils and National Marine Fisheries Service Southeast Regional Office, Highly Migratory Species (HMS) Management Division, and Southeast Fisheries Science Center. Participants include data collectors and database managers; stock assessment scientists, biologists, and researchers; constituency representatives including fishermen, environmentalists, and non-governmental organizations (NGO's); International experts; and staff of Councils, Commissions, and state and federal agencies.

The items of discussion in the Assessment Webinar 2 are as follows: Participants will continue discussing modeling configurations.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations: These meetings are physically accessible to people with disabilities. Requests for sign language interpretation or other auxiliary aids should be directed to the Council office (see ADDRESSES) at least 5 business days prior to each workshop.

Note: The times and sequence specified in this agenda are subject to change.

Authority: 16 U.S.C. 1801 et seq.

Dated: December 29, 2025.
Becky Curtis,
Acting Deputy Director, Office of Sustainable Fisheries, National Marine Fisheries Service.

[FR Doc. 2025-24152 Filed 12-31-25; 8:45 am]

BILLING CODE 3510-22-P